DEPARTMENT OF JUSTICE

Notice of Lodging of Proposed Amendment to Consent Decree Under the Clean Air Act

On July 25, 2022, the Department of Justice lodged a proposed amendment to the consent decree entered in the matter of United States v. Equistar Chemicals, LP; LyondellBasell Acetyls, LLC; and Lyondell Chemical Co., Civil Action No. 4:21-cv-3359 in the United States District Court for the Southern District of Texas.

The United States filed this lawsuit under the Clean Air Act. The complaint sought injunctive relief and civil penalties based on violations of the Clean Air Act's New Source Review requirements, New Source Performance Standards, National Emissions Standards for Hazardous Air Pollutants, “Title V” program requirements and operating permits, and related Texas and Iowa state implementation plan requirements. The violations resolved by the proposed consent decree amendment involve two flares used at a petrochemical manufacturing plant owned and operated by the defendants, Lyondell Chemical Co. and Equistar Chemicals, LP, in Morris, Illinois (the “Morris Plant”). The consent decree amendment requires the defendants to perform injunctive relief at the Morris Plant and pay a $324,000 civil penalty.

The publication of this notice opens a period for public comment on the proposed consent decree amendment. Comments should be addressed to the Assistant Attorney General, Environment and Natural Resources Division, and should refer to United States v. Equistar Chemicals, LP; LyondellBasell Acetyls, LLC; and Lyondell Chemical Co., D.J. Ref. No. 90-5-2-1-11416/2. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed consent decree amendment may be examined and downloaded at this Justice Department website: https://www.justice.gov/enrd/consent-decrees. We will provide a paper copy of the proposed consent decree amendment upon written request and payment of reproduction costs. Please mail your request and payment to: Consent Decree Library, U.S. DOJ—ENRD, P.O. Box 7611, Washington, DC 20044-7611.

Please enclose a check or money order for $8.00 (25 cents per page reproduction cost) payable to the United States Treasury. For a paper copy without the exhibits and signature pages, the cost is $3.50.

Patricia McKenna,
Assistant Section Chief, Environmental Enforcement Section, Environment and Natural Resources Division.

[FR Doc. 2022-16213 Filed 7-27-22; 8:45 am]

BILLING CODE 4410-15-P